DEPARTMENT OF ENERGY

Federal Energy Regulatory Commission

[Docket Nos. ER04-691-000 and Docket No. EL04-104-000]

Midwest Independent Transmission System Operator, Inc.; Public Utilities With Grandfathered Agreements in the Midwest ISO Region; Notice Granting Extension of Time

June 16, 2004.

On June 10, 2004, the National Rural Electric Cooperative Association, American Public Power Association, Dairyland Power Cooperative, GEN~SYS Energy, Midwest TDUs, Basin Electric Power Cooperative, Central Power Electric Cooperative, East River Electric Power Cooperative, Inc., Capital Electric Cooperative, Associated Electric Cooperative, Inc., Northeast Missouri Electric Power Cooperative, Minnkota Power Cooperative, Inc., Wisconsin Transmission Customer Group, and Hoosier Energy Rural Electric Cooperative, Inc. (together “Joint Movants”) filed a motion for an extension of time for interested persons to file certain comments in Step 1 of the 3-step proceeding to address the grandfathered agreements (GFAs), as set forth in the Commission's Order (Order) issued May 26, 2004, in the above-docketed proceedings. The May 26 Order required interested parties to file initial comments by July 9, 2004, to a June 25, 2004, submission by the Midwest ISO concerning reliability and economic benefits of its proposed congestion management system with GFAs included in the market. The May 26 Order also made reply comments due July 9, 2004, to the comments of all affected parties on: (1) Whether keeping the GFAs separate from the market would negatively impact reliability; (2) the extent to which GFAs shift costs to third parties; and (3) whether keeping the GFAs separate from the market would result in undue discrimination. Joint Movants request that the Commission extend both comment deadlines to August 6, 2004.

In their motion, Joint Movants state that the period for preparation of these comments coincides with the upcoming Fourth of July holiday and that additional time is needed to prepare these comments. Joint Movants also state that the Midwest ISO does not oppose the request for additional time, provided that the extension of time does not adversely impact the Commission's attempt to issue an order on the merits, as described in the May 26 Order.

Upon consideration, notice is hereby given that an extension of time to file initial comments on the Midwest ISO's June 25 filing, and reply comments regarding the three issues enumerated above, is granted to and including July 16, 2004.

Magalie R. Salas,
Secretary.

[FR Doc. E4-1394 Filed 6-23-04; 8:45 am]

BILLING CODE 6717-01-P